DEPARTMENT OF DEFENSE

Office of the Secretary

[Transmittal No. 20-09]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-09 with attached Policy Justification and Sensitivity of Technology.

Dated: March 10, 2020.
Aaron T. Siegel,
Alternate OSD Federal Register Liaison Officer, Department of Defense.

BILLING CODE 5001-06-P

BILLING CODE 5001-06-C

Transmittal No. 20-09

Notice of Proposed Issuance of Letter of Offer Pursuant to Section 36(b)(1) of the Arms Export Control Act, as amended

(i) Prospective Purchaser: Government of Poland

(ii) Total Estimated Value:

Major Defense Equipment * | $ 75 million
Other | $ 25 million
Total | $100 million

(iii) Description and Quantity or Quantities of Articles or Services under Consideration for Purchase:

Major Defense Equipment (MDE):

One hundred eighty (180) Javelin Missiles

Seventy-nine (79) Javelin Command Launch Units (CLU)

Non-MDE:

Also included are Basic Skill Trainers (BST), Missile Simulation Rounds (MSR), Battery Coolant Units (BCU), tool kits, modified 2-level maintenance parts, training, U.S. Government and contractor technical assistance, transportation and other related elements of logistics support.

(iv) Military Department: Army (PL-B-UDN)

(v) Prior Related Cases, if any: None

(vi) Sales Commission, Fee, etc., Paid, Offered, or Agreed to be Paid: None

(vii) Sensitivity of Technology Contained in the Defense Article or Defense Services Proposed to be Sold: See Attached Annex.

(viii) Date Report Delivered to Congress: March 4, 2020

*As defined in Section 47(6) of the Arms Export Control Act.

POLICY JUSTIFICATION

Poland—Javelin Missile and Command Launch Unit

The Government of Poland has requested to buy one hundred eighty (180) Javelin missiles and seventy-nine (79) Javelin Command Launch Units (CLUs). Also included are Basic Skill Trainers (BST), Missile Simulation Rounds (MSR), Battery Coolant Units (BCU), tool kits, modified 2-level maintenance parts, training, U.S. Government and contractor technical assistance, transportation and other related elements of logistics support. The total estimated program cost is $100 million.

This proposed sale will support the foreign policy and national security of the United States by improving the security of a NATO ally and partner nation which is an important force for peace, political stability, and economic progress in Eastern Europe.

This proposed sale of the Javelin system will help Poland build its long-term defense capacity to defend its sovereignty and territorial integrity in order to meet its national defense requirements. Poland will have no difficulty absorbing this system into its armed forces.

The proposed sale of this equipment and support will not alter the basic military balance in the region.

The prime contractors will be Raytheon/Lockheed Martin Javelin Joint Venture, Orlando, Florida and Tucson, Arizona. There are no known offset agreements proposed in connection with this potential sale. However, the purchaser typically requests offsets. Any offset agreement will be defined in negotiations between the purchaser and the contractor(s).

Implementation of this proposed sale will not require the assignment of U.S. Government or contractor representatives to Poland.

There will be no adverse impact on U.S. defense readiness as a result of this proposed sale.

Transmittal No. 20-09

Notice of Proposed Issuance of Letter of Offer Pursuant to Section 36(b)(1) of the Arms Export Control Act

Annex

Item No. vii

(vii) Sensitivity of Technology:

1. The Javelin Weapon System is a medium-range, man-portable, shoulder-launched, fire-and-forget, anti-tank system for infantry, scouts, and combat engineers. It may also be mounted on a variety of platforms including vehicles, aircraft, and watercraft. The system weighs 49.5 pounds and has a maximum range in excess of 2,500 meters. The system is highly lethal against tanks and other systems with conventional and reactive armors. The system possesses a secondary capability against bunkers.

2. The Javelin Weapon System is comprised of two major tactical components, which are a reusable Command Launch Unit (CLU) and a round contained in a disposable launch tube assembly. The CLU incorporates an integrated day-night sight that provides a target engagement capability in adverse weather and countermeasure environments. The CLU may also be used in a stand-alone mode for battlefield surveillance and target detection. The CLU's thermal sight is a Forward Looking Infrared (FLIR) sensor.

3. The Javelin's key technical feature is the use of fire-and-forget technology which allows the gunner to fire and immediately relocate or take cover. The missile is autonomously guided to the target which allows the gunner the ability to reload and engage another target after firing a missile. The missile has a tandem warhead that is effective against armor threats.

4. The Javelin Missile System hardware and the documentation are UNCLASSIFIED. The missile software which resides in the CLU is CLASSIFIED.

5. If a technologically advanced adversary obtains knowledge of the specific hardware and software elements, the information could be used to develop countermeasures or equivalent systems that might reduce weapon system effectiveness or be used in the development of a system with similar or advanced capabilities.

6. A determination has been made that Poland can provide substantially the same degree of protection for the sensitive technology being released as the U.S. Government. This proposed sale is necessary to further the U.S. foreign policy and national security objectives outlined in the Policy Justification.

7. All defense articles and services listed on this transmittal are authorized for release and export to the Government of Poland.

[FR Doc. 2020-05389 Filed 3-16-20; 8:45 am]

BILLING CODE 5001-06-P